DEPARTMENT OF TRANSPORTATION

Federal Aviation Administration

Flight Standards District Office at Scottsdale and Phoenix, AZ; Notice of Change

Notice is hereby given that on or about July 1, 2001, the Flight Standards District Office located at Scottsdale and Phoenix, Arizona will be divided into two independent offices—Scottsdale Flight Standards District Office and Phoenix Certificate Management Office. Services to the public will continue to be provided at the same locations with no interruption. This information will be reflected in the FAA Organization Statement the next time it is reissued. (Sec. 313(a), 72 Stat. 752; 49 U.S.C. 1354).

Issued in Los Angeles, CA, on May 25, 2001.
Lynore C. Brekke,
Acting Regional Administrator, Western-Pacific Region.

[FR Doc. 01-15172 Filed 6-14-01; 8:45 am]

BILLING CODE 4910-13-M